DEPARTMENT OF THE TREASURY

Internal Revenue Service

26 CFR Part 1

[REG-166012-02]

RIN 1545-BB82

National Principal Contracts; Contingent Nonperiodic Payments; Correction

AGENCY: Internal Revenue Service (IRS), Treasury.

ACTION: Correction to hearing cancellation for public hearing.

SUMMARY: This document contains a correction to a hearing cancellation notice published in the Federal Register on May 14, 2004 (69 FR 26782) that relates to the inclusion into income or deduction of a contingent nonperiodic payment provided for under a notional principal contract (NPC).

FOR FURTHER INFORMATION CONTACT: Kate Sleeth, (202) 622-3920 (not a toll free number).

SUPPLEMENTARY INFORMATION:

Background

The hearing cancellation notice that is the subject of this correction is under section 446 of the Internal Revenue Code.

Need for Correction

As published, the hearing cancellation notice (REG-166012-02), contains an error that may prove to be misleading and is in need of clarification.

Correction of Publication

Accordingly, the publication of the hearing cancellation notice (REG-166012-02), which was the subject of FR Doc. 04-11016, is corrected as follows:

On page 26782, column 3, in the heading, the subject line “National Principal Contracts; Contingent Nonperiodic Payments; Hearing Cancellation” is corrected to read “National Principal Contracts; Contingent Nonperiodic Payments; Hearing Cancellation”.

Cynthia Grigsby,
Acting Chief, Publications and Regulations Branch, Legal Processing Division, Associate Chief Counsel, (Procedures and Administration).

[FR Doc. 04-13953 Filed 6-18-04; 8:45 am]

BILLING CODE 4830-01-P